COMMITTEE FOR PURCHASE FROM PEOPLE WHO ARE BLIND OR SEVERELY DISABLED

Procurement List; Additions

AGENCY: Committee for Purchase From People Who Are Blind or Severely Disabled.

ACTION: Additions to the Procurement List.

SUMMARY: This action adds to the Procurement List a commodity and services to be furnished by nonprofit agencies employing persons who are blind or have other severe disabilities.

EFFECTIVE DATE: September 4, 2001.

ADDRESSES: Committee for Purchase From People Who Are Blind or Severely Disabled, Jefferson Plaza 2, Suite 10800, 1421 Jefferson Davis Highway, Arlington, Virginia 22202-3259.

FOR FURTHER INFORMATION CONTACT: Louis R. Bartalot (703) 603-7740.

SUPPLEMENTARY INFORMATION: On March, 30, April 13, June 1, and June 8, 2001, the Committee for Purchase From People Who Are Blind or Severely Disabled published notices (66 F.R. 17406, 19136, 29769 and 30884) of proposed additions to the Procurement List.

After consideration of the material presented to it concerning capability of qualified nonprofit agencies to provide the commodity and services and impact of the additions on the current or most recent contractors, the Committee has determined that the commodity and services listed below are suitable for procurement by the Federal Government under 41 U.S.C. 46-48c and 41 CFR 51-2.4.

I certify that the following action will not have a significant impact on a substantial number of small entities. The major factors considered for this certification were:

1. The action will not result in any additional reporting, recordkeeping or other compliance requirements for small entities other than the small organizations that will furnish the commodity and services to the Government.

2. The action will not have a severe economic impact on current contractors for the commodity and services.

3. The action will result in authorizing small entities to furnish the commodity and services to the Government.

4. There are no known regulatory alternatives which would accomplish the objectives of the Javits-Wagner-O'Day Act (41 U.S.C. 46-48c) in connection with the commodity and services proposed for addition to the Procurement List.

Accordingly, the following commodity and services are hereby added to the Procurement List:

Commodity

Mattress, High Density Lumbar

7210-00-NIB-0060

7210-00-NIB-0061

Services

Food Service Attendant

Alabama Air National Guard, HQ 117th Air Refueling Wing, Birmingham, Alabama

Food Service Attendant

Indiana Air National Guard, Hulman International Airport, Terre Haute, Indiana

Janitorial/Grounds Maintenance

At the following Locations:

U.S. Border Patrol, Laredo Sector, Laredo, Texas

U.S. Border Patrol Laredo South Station, Laredo, Texas

Laredo Border Patrol Traffic Checkpoint, Laredo, Texas

Border Patrol Sector Headquarters, 207 W. Del Mar Boulevard, Laredo, Texas

U.S. Border Patrol Station, Freer, Texas

U.S. Border Patrol Traffic Checkpoint, Freer, Texas

The Hebbronville Border Patrol Station, 802 N. Sigrid Street, Hebbronville, Texas

The Hebbronville Checkpoint, Hebbronville, Texas

The Border Patrol Traffic Checkpoint, Bruni, Texas

Laredo Sector Air Operations Hangar, Laredo, Texas

U.S. Border Patrol Station, San Antonio, Texas

Zapata Border Patrol Station, Zapata, Texas

Laredo North Border Patrol Station, 11119 N. McPherson Road, Laredo, Texas

Mailroom Operation

Department of Health and Human Services, Program Support Center Headquarters, Dallas, Texas

This action does not affect current contracts awarded prior to the effective date of this addition or options that may be exercised under those contracts.

Louis R. Bartalot,
Director, Program Analysis and Evaluation.

[FR Doc. 01-19491 Filed 8-2-01; 8:45 am]

BILLING CODE 6353-01-P